DEPARTMENT OF LABOR

Employment and Training Administration

[TA-W-74,195]

Caps Visual Communications, LLC; Black Dot Group; Formerly Known as Caps Group Acquisition, LLC Chicago, IL; Amended Certification Regarding Eligibility To Apply for Worker Adjustment Assistance

In accordance with Section 223 of the Trade Act of 1974, as amended (“Act”), 19 U.S.C. 2273, the Department of Labor issued a Certification of Eligibility to Apply for Worker Adjustment Assistance on June 24, 2010, applicable to workers of Caps Visual Communications, LLC, Black Dot Group, formerly known as Caps Group Acquisition, LLC, Chicago, Illinois. The notice is soon to be published in the Federal Register.

At the request of the State Agency, the Department reviewed the certification for workers of the subject firm. The workers are engaged in activities related to prepress services.

New information shows that the subject firm is experiencing employment declines due to a shift of prepress services to India and the Philippines prior to the impact date stated on the certification. Further, additional information revealed that a certification granted to workers of an affiliate location, Caps Visual Communications, LLC, Black Dot Group, formerly known as Caps Group Acquisition, LLC, Chicago, Illinois (TA-W-63,585) does not cover the group of workers in question.

Based on these findings, the Department is amending this certification to reflect an impact date one year prior to the date of petition (May 26, 2010).

The amended notice applicable to TA-W-74,195 is hereby issued as follows:

``All workers Caps Visual Communications, LLC, Black Dot Group, formerly known as Caps Group Acquisition, LLC, Chicago, Illinois who became totally or partially separated from employment on or after May 26, 2009, through June 24, 2010, and all workers in the group threatened with total or partial separation from employment on the date of certification through two years from the date of certification, are eligible to apply for adjustment assistance under Chapter 2 of Title II of the Trade Act of 1974, as amended.''

Signed at Washington, DC, this 30th day of July 2010.
Elliott S. Kushner,
Certifying Officer, Division of Trade Adjustment Assistance.

[FR Doc. 2010-20036 Filed 8-12-10; 8:45 am]

BILLING CODE 4510-FN-P